DEPARTMENT OF THE INTERIOR

National Park Service

[NPS-WASO-NAGPRA-NPS0035483; PPWOCRADN0-PCU00RP14.R50000]

Notice of Inventory Completion: Moravian Historical Society, Nazareth, PA

AGENCY: National Park Service, Interior.

ACTION: Notice.

SUMMARY: In accordance with the Native American Graves Protection and Repatriation Act (NAGPRA), the Moravian Historical Society has completed an inventory of human remains and associated funerary objects and has determined that there is a cultural affiliation between the human remains and associated funerary objects and Indian Tribes or Native Hawaiian organizations in this notice. The human remains and associated funerary objects were removed from Tuscarawas County, OH.

DATES: Repatriation of the human remains and associated funerary objects in this notice may occur on or after April 20, 2023.

ADDRESSES: Farrar Lannon, Moravian Historical Society, 214 E Center Street, Nazareth, PA 18064, telephone (610) 759-5070, email curator@moravianhistory.org.

SUPPLEMENTARY INFORMATION: This notice is published as part of the National Park Service's administrative responsibilities under NAGPRA. The determinations in this notice are the sole responsibility of the Moravian Historical Society. The National Park Service is not responsible for the determinations in this notice. Additional information on the determinations in this notice, including the results of consultation, can be found in the inventory or related records held by the Moravian Historical Society.

Description

Human remains representing, at minimum, two individuals were removed from Tuscarawas County, OH. Between 1850 and 1880, the human remains were removed from the former site of the village of Gnadenhutten. In 1782, ninety-six pacifist Moravian Christian Indians (primarily Lenape and Mohican) were massacred by U.S. militiamen from Pennsylvania at Gnadenhutten. After looting the homes, the militiamen burned the village. The killing field remained untouched for 17 years until 1799, when Moravian missionaries and Christian Indians visited the site, collected all the skeletal remains that they could find, and buried them in one mass grave. In 1857, a B. Roming donated a single proximal phalange to the Moravian Historical Society (MHS) bearing the inscription “toe-bone of an Indian from Gnadenhutten, Ohio.” In 1985, Mrs. John Weinlick donated a small, decorated box to MHS containing four bone fragments and pieces of burnt corn that had been collected from Gnadenhutten in 1872. No known individuals were identified. The 60 associated funerary objects are the pieces of burnt corn.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the Moravian Historical Society has determined that:

• The human remains described in this notice represent the physical remains of two individuals of Native American ancestry.

• The 60 objects described in this notice are reasonably believed to have been placed with or near individual human remains at the time of death or later as part of the death rite or ceremony.

• There is a relationship of shared group identity that can be reasonably traced between the human remains and associated funerary objects described in this notice and the Delaware Nation, Oklahoma; Delaware Tribe of Indians; and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 20, 2023. If competing requests for repatriation are received, the Moravian Historical Society must determine the most appropriate requestor prior to repatriation. Requests for joint repatriation of the human remains and associated funerary objects are considered a single request and not competing requests. The Moravian Historical Society is responsible for sending a copy of this notice to the Indian Tribes identified in this notice.

Authority: Native American Graves Protection and Repatriation Act, 25 U.S.C. 3003, and the implementing regulations, 43 CFR 10.9, 10.10, and 10.14.

Dated: March 15, 2023.
Melanie O'Brien,
Manager, National NAGPRA Program.

[FR Doc. 2023-05729 Filed 3-20-23; 8:45 am]

BILLING CODE 4312-52-P